DEPARTMENT OF HOMELAND SECURITY

Transportation Security Administration

Aviation Security Advisory Committee (ASAC) Meeting

AGENCY: Transportation Security Administration, DHS.

ACTION: Committee Management; Notice of Federal Advisory Committee Meeting.

SUMMARY: The Transportation Security Administration (TSA) will hold a meeting of the Aviation Security Advisory Committee (ASAC) on May 21, 2012, to discuss the formation of sub-committees and the agenda for the year. This meeting will be open to the public.

DATES: The Committee will meet on Monday, May 21, 2012, from 1:30 p.m.-4:00 p.m. This meeting may end early if all business is completed.

ADDRESSES: The meeting will be held at the Transportation Security Administration Headquarters, 601 12th Street South, Arlington, VA 22202.

FOR FURTHER INFORMATION CONTACT: Dean Walter, ASAC Designated Federal Officer, Transportation Security Administration (TSA-28), 601 12th Street South, Arlington, VA 20598-4028, Dean.Walter@dhs.gov, 571-227-2645.

SUPPLEMENTARY INFORMATION:

Summary

Notice of this meeting is given under section 10(a)(2) of the Federal Advisory Committee Act, 5 U.S.C. App. (Pub. L. 92-463). ASAC operates under the authority of 46 U.S.C. 70112 and provides advice, consults with, and makes recommendations to the Secretary of Homeland Security, via the Administrator of TSA on matters affecting civil aviation security.

This meeting is open to the public, but attendance is limited to 125 people. The meeting will be held at TSA Headquarters, which is a secure facility. Members of the public must register in advance with their full name and company/association to attend. In addition, members of the public must make advance arrangements to present oral statements at the meeting. The public comment period will be held during the meeting from approximately 3:30 p.m. to 4:00 p.m., depending on the meeting progress. Speakers are requested to limit their comments to two minutes. Please note that the public comment period will end following the last call for comments. Written statements may also be presented to the Committee. Contact the person listed in the FOR FURTHER INFORMATION CONTACT section no later than May 14, 2012, to register to attend the meeting and/or to speak at the meeting. Written statements shall also be submitted no later than May 14, 2012. Anyone in need of assistance or a reasonable accommodation for the meeting should contact the person listed in the FOR FURTHER INFORMATION CONTACT section.

Agenda

The agenda for the meeting is as follows:

1. Chairman's Welcome and Introduction.

2. Opening Remarks.

3. Risk-Based Security Update.

4. Sub-Group Formation.

a. Risk-Based Security Working Group.

b. International Sub-Committee.

c. General Aviation Sub-Committee.

d. Air Cargo Sub-Committee.

e. Passenger Advocacy Sub-Committee.

5. Public Question/Comment Period.

Issued in Arlington, Virginia, on April 27, 2012.
John P. Sammon,
Assistant Administrator, Office of Security Policy and Industry Engagement.

[FR Doc. 2012-10817 Filed 5-3-12; 8:45 am]

BILLING CODE 9110-05-P